DEPARTMENT OF COMMERCE

National Oceanic and Atmospheric Administration

RIN 0648-XF16

Vessel Monitoring Systems; Specification of Requirements for Mobile Transmitting Unit Type Approval

AGENCY: National Marine Fisheries Service (NMFS), National Oceanic and Atmospheric Administration (NOAA), Commerce.

ACTION: Revision of type approval requirements for mobile transmitting units.

SUMMARY: This document provides notice of type approval requirements for Mobile Transmitting Units (MTU) to be authorized for use on any vessel participating in the NOAA Vessel Monitoring System (VMS) program. Vessels participating in VMS program must acquire an NMFS-approved MTU to comply with VMS standards set forth in NMFS rules requiring the use of VMS.

ADDRESSES: To obtain copies of the list of NMFS-approved VMS MTU and VMS communications service providers, or to obtain information regarding the status of VMS systems being evaluated by NOAA, write to NOAA Fisheries, Office for Law Enforcement (OLE), 8484 Georgia Avenue, Suite 415, Silver Spring, MD 20910.

FOR FURTHER INFORMATION CONTACT: For current listing information contact the VMS Support Center by phone: 888-210-9228, or by fax: 301-427-0049 or for questions regarding VMS installation and status of evaluations contact Jonathan Pinkerton, National VMS Program Manager by phone: 301 427 2300 or by fax: 301-427-0049.

SUPPLEMENTARY INFORMATION: This notice supersedes all previous notices on MTU type approval requirements. Previously installed MTU approved under prior notices will continue to be approved for the remainder of their service life. New installations of a previously approved MTU occurring 120 days or more after the publication date of this notice must comply with all of the requirements herein. All new requests for type approval must comply with all of the requirements herein.

Background

The Department of Commerce, National Oceanic and Atmospheric Administration, National Marine Fisheries Service, Office for Law Enforcement (OLE) maintains MTU specification requirements as an OLE National Directive. This notice sets prerequisite standards for the purpose of type approval that must be met by an MTU and any associated software before it is authorized for use in the NOAA VMS program. Vessels participating in VMS program must acquire an NMFS-approved MTU to comply with the specific VMS standards set forth in NMFS rules requiring the use of VMS. The MTU is a transceiver or communications device, including antennae, dedicated message terminal and display, and an input device such as a keyboard installed on fishing vessels participating in the VMS requirement. The MTU allows OLE to determine the geographic position of the vessel during specified intervals or events. In addition, it enables mobile communications services between OLE and the vessel when using an NMFS-accepted Mobile Communication Service Provider (MCSP). (Note: Standards for the MCSP are written in the complementary directive titled Mobile Communication Service Provider Specification of Requirements.)

Goal

OLE seeks to deploy an “open system,” whereby the fishing industry participants may select from a variety of suppliers that qualify and have been approved to participate in VMS program. Fishermen must comply with applicable Federal fishery regulations regarding VMS and therefore may be cited for a violation and held accountable for monitoring anomalies not attributable to faults in the MCSP or MTU. Therefore, type approval is essential to establish and maintain uniformly high system integrity. By this directive, OLE seeks to approve reliable, robust, and secure MTU products and thereby create and maintain a VMS meeting the requirement of high integrity. Specific VMS programs are created to support particular NMFS rules requiring the use of VMS, which typically are designed to manage or protect fish and other marine species within designated areas.

Process

Based on a request for type approval from an MTU supplier and certification of certain minimal standards, OLE will conduct a thorough evaluation and then issue a statement accepting or denying the type approval of the particular MTU. An MTU must meet the minimal national VMS standards, as required by this directive, and the requirements of the specific fisheries for which approval is sought. MTU supplier requesters are encouraged to review the national VMS standards and NMFS rules requiring the use of VMS prior to submitting a request for approval. Upon successful demonstration of compliance with the requirements set forth in this directive, NMFS will issue an MTU type approval within a particular communications Class applicable to one or more VMS operations targeting particular NMFS rules requiring the use of VMS. OLE will maintain a current list of type approved MTU(s), and will forward lists of type approved MTU(s) to the respective regional Fisheries Management Council(s), post the information on the OLE website and provide it by fax upon request.

NMFS approval will not necessarily result in agency procurement of the MTU. Instead, OLE will request that the MTU supplier provide a fact sheet to the fishing industry. The fact sheet will allow fishermen to make purchase decisions that are compatible with the VMS standards and their individual needs. Purchasing strategies are determined on a per implementation basis.

Initiation

OLE will initiate the MTU type approval process upon written request from the supplier, subject to the demonstration of compliance with this directive and the availability of test units. The requestor for type approval may include the manufacturer, or an OEM/labeler, distributor, and/or reseller acting as a representative of the manufacturer. The evaluation may include consideration if that MTU has already passed a comparable type approval process to qualify for use in a foreign fisheries management effort. If applicable, the supplier should provide the MTU's identifying characteristics, the details of the foreign VMS requirement specifications, the MTU's level of compliance with them, and appropriate contact details of the approving authorities. NMFS also will consider approving an MTU OEM (original equipment manufacturer) model built from an equivalent MTU that already has received agency type approval under this directive.

Interoperability

A supplier of an MTU seeking type approval within a particular communications class for VMS shall demonstrate that it meets the standards when using at least one qualified MCSP within that same class. The standards in this directive are intended to ensure that type approval for a particular MTU will permit its interoperability with all qualified MCSPs within its same class. A class refers to the medium, protocol, and frequency of the mobile communications technology. Some examples of existing classes include Inmarsat-C and Qualcomm/OmniTracs. To best promote interoperability within a class, MTU and MCSP acceptance standards are outlined in separate directives. However, concurrent with the approval process for an MTU, the approval for a same-class MCSP must be either in place or pending. Data received by OLE from the MTU via an approved MCSP must be in a format compatible with OLE tracking software.

Submission

A supplier of an MTU requesting type approval shall begin by certifying that the MTU meets the minimum national VMS standards as required by this directive. Suppliers must describe in detail the extent to which its MTU complies with each of the requirements for the VMS implementation of interest as stated within this directive. The supplier, or requestor for type approval, must provide OLE with two MTUs for each fishery for which application is made for a minimum of 90-days for testing and evaluation. The supplier must also provide thorough MTU documentation, including fact sheets, installation guides, operator manuals, user handbooks, the applicable interfacing software, and technical support. OLE shall review the submissions against the criteria of this directive. Next, OLE shall perform field test and sea trials. For this, OLE will either coordinate test conditions with volunteer and/or contract fishing vessels, or contract a third-party to accomplish this task. The tests may involve demonstrating every aspect of MTU operation, including installation of a registered MTU, location tracking, messaging, and maintenance procedures.

Submit requests for type approval, along with hard and soft copies of support material to: U.S. Department of Commerce; National Oceanic and Atmospheric Administration; National Marine Fisheries Service; Office for Law Enforcement; Attention: Vessel Monitoring System Program; 8484 Georgia Ave. Suite 415; Silver Spring, MD 20910 USA; voice 301-427-2300; fax 301-427-0049.

Litigation Support

Due to the use of VMS for law enforcement, all technical aspects of a supplier's submission are subject to being admitted as evidence in a court of law, if needed. The reliability of all technologies utilized in the MTU may be analyzed in court for, inter alia, testing procedures, error rates, peer review, and general industry acceptance. Further, the supplier may be required to provide technical and expert support for a litigation to support the MTU capabilities to establish OLE's case against violators. If the technologies have previously been subject to such scrutiny in a court of law, the supplier should describe the evidence and any court finding on the reliability of the technology. Additionally, to maintain the integrity of VMS for fisheries management, the supplier will be required to sign a non-disclosure agreement limiting the release of certain information that might compromise the effectiveness of the VMS operations, such as, but not limited to, details of anti-tampering safeguards. The supplier shall include a statement confirming its agreement with these conditions.

Change Control

Once an MTU is approved, it is the supplier's responsibility to notify OLE of any substantive change in the original submission, such as changes to firmware versions, and customer support contacts. OLE reserves the right to reconsider and revoke the MTU approval if as a result of a change to the MTU or VMS requirement the unit no longer satisfies the requirement.

Any modification to the functionality of an approved MTU including but not limited to firmware, software, services, or passwords unless expressly authorized by NMFS OLE will invalidate the type approval of the unit and render it out of compliance with NMFS rules requiring the use of VMS. Any addition, deletion or change of the firmware, software, services, or passwords of an MTU unless expressly authorized by NMFS OLE will also invalidate the type approval of the unit and render it out of compliance with NMFS rules requiring the use of VMS. Fishermen that are determined to be out of compliance with Federal Fisheries VMS regulations may be cited for violations and held accountable for monitoring anomalies not attributable to faults in the MCSP or MTU.

Requester

Requesters must respond to each of the items listed in sections 1 through 6 of this document. The response should indicate how the requestor complies with the requirement referred to in the item. Items that the requestor does not currently comply with must be responded to by explaining how the requestor will comply with the requirement prior to approval.

Section 1. Identifiers

1. 1. Specify the identifying characteristics of the MTU:

1.1.1. Communications Class.

1.1.2. Manufacturer.

1.1.3. Brand Name.

1.1.4. Model Name.

1.1.5. Model Number.

1.1.6. Software Version Number and Date.

1.1.7. Firmware Version Number and Date.

1.1.8. Hardware Version Number and Date.

1.1.9. Antenna Type.

1.1.10. Antenna Model Number and Date.

1.1.11. Monitor or terminal Model Number and Date.

1.1.12. MCSP Providing Communications Services.

1.2. For the following responsibilities, name the business entities who act on behalf of the manufacturer and supplier applying for type approval. Include the address, phone, contacts, email, and designated geographic territory where applicable.

1.2.1. Manufacturer.

1.2.2. Label or use MTU for an OEM. This includes re-labeling OEM MTUs or reselling. Reselling includes value-added reselling. The MTU that is type approved is the final, value-added product and not the original manufacturer's MTU, if enhancements or modifications have been made. For example, if a transceiver is contained within an enclosure, it is the new enclosure including the transceiver that is being type approved.

1.2.3. Distribute.

1.2.4. Sell.

1.2.5. Bench configures the MTU at the warehouse or point of supply.

1.2.6. Install MTU onboard the vessel.

1.2.7. Offer limited warranty.

1.2.8. Offer maintenance and service agreement.

1.2.9. Repair.

1.2.10. Train.

1.2.11. Advertise.

Section 2. Messaging

The MTU must provide the following messaging functionality:

2.1. Transmit mandatory, automatically generated position reports.

2.2. Onboard visible or audible alarms for malfunctioning of the MTU.

2.3. Ability to disable non-essential alarms in non-Global Maritime Distress and Safety System (GMDSS) installations.

2.4. Ability to provide comprehensive and transparent communications, which function uniformly within the entire geographic coverage area for that communications class.

2.5. Two-way communications between MCSP and MTU.

2.6. The ability to send and receive free-form Internet email text messages and electronic forms.

2.7. All messages should be relayed so that OLE automatically receives no less than 97 percent of all messages within 15 minutes or less of the MTU timestamp and be transparent to the geographic region.

Section 3. Position Data Formats and Transmission

3.1. The MTU must provide position information as required by the applicable VMS rule in addition to:

3.1.1. Position fixes latitude and longitude, including the hemisphere of each.

3.1.2. The position fix precision must be to the decimal minute hundredths.

3.1.3. Accuracy of the reported position must be within 100 meters, unless otherwise indicated by an existing regulation or VMS requirement.

3.1.4. Communications between MTU and MCSP must be secure from tampering or interception, including the reading of passwords and data. Therefore, the MTU must have mechanisms to prevent to the extent possible:

3.1.4.1. Interception and “sniffing” during transmission from the MTU to MCSP via either wireless or terrestrial facilities.

3.1.4.2. Spoofing, whereby one MTU is fraudulently identifying itself as another MTU.

3.1.4.3. Modification of MTU identification.

3.1.4.4. Interference with GMDSS or other safety/distress functions.

3.1.4.5. Introduction of viruses that may corrupt, disturb, or disrupt messages, transmission, or the VMS system.

3.1.4.6. Introduction of software modifications through the use of input/output devices. Item such as CDDVD readers or writers should be removed, physically disabled, or rendered inaccessible, ports and connections not directly used for connecting to the VMS device or authorized peripherals should be removed or permanently sealed.

3.2. MTU shall provide the ability to meet minimum reporting requirements and intervals as required for specific NMFS rules requiring the use of VMS.

3.2.1. Provide automatically generated position reporting, for vessels managed individually or grouped by fleet, such that OLE automatically receives no less than 97 percent of the position reports sent at defined intervals within 15 minutes or less of the MTU timestamp and be transparent to the geographic region.

3.2.2. Have the ability to store 100 position fixes in local, non-volatile memory.

3.2.3. Allow for defining variable reporting intervals between 5 minutes and 24 hours.

3.2.4. MTU must be able to change reporting intervals remotely, and only by authorized users.

3.3. An MTU must be able to transmit automatically generated position reports, which contain the following:

3.3.1. Unique identification of an MTU within the communications class.

3.3.2. Date (year/month/day with century in the year) and time (GMT) stamp of the position fix.

3.4. In addition to automatically generated position reports, specially identified position reports shall be generated upon:

3.4.1. Antenna disconnection

3.4.2. Loss of the positioning reference signals.

3.4.3. Loss of the mobile communications signals.

3.4.4. Security events, power-up, power-down, and other status data.

3.4.5. The vessel crossing a pre-defined geographic boundary.

3.4.6. MTU status information such as configuration of programming and reporting intervals.

3.4.7. When an MTU is powered up, it must automatically re-establish its position reporting function without manual intervention.

Section 4. Text Messaging

4.1.1. Text messaging from vessel to shore with a minimum supported message length of 1kb.

4.1.2. User interface must support an 'address book' capability and a function permitting a “reply” to a received message without re-entry of the senders e-mail address.

4.1.3. A confirmation of delivery function is required such that a user can ascertain whether a specific message was successfully transmitted via the satellite system to the MCSP e-mail server(s).

4.1.4. Onward delivery to NMFS must be reliable and make use of features such as SMTP retries and delivery confirmation to ensure a reliable transport path exists for text messages sent from the vessel to NMFS.

4.1.5. The user interface must provide the ability to review by date order, or by recipient, messages that were previously sent. The terminal must support a minimum message history of 20 messages - commonly referred to as an “Outbox” or “Sent” messages display.

4.1.6. Text messaging from shore to vessel with a minimum supported message length of 1kb.

4.1.7. The user interface must provide the ability to review by date order, or by sender, all messages received. The terminal must support a minimum message history of 20 messages-commonly referred to as an “Inbox”.

4.1.8. Negative delivery notifications must be sent to the originator where delivery to the terminal could not be completed for any reason. Such Non Delivery Notification must include sufficient information to uniquely identify the message that failed and the cause of failure (i.e., mobile number invalid, mobile switched off etc.).

4.2. Electronic Forms

Pre-formatted messages are required for the collection of validated data for specific fisheries programs (i.e., declaration systems, catch effort reporting). This capability is referred to as Electronic Forms. The E-MTU must support a minimum of 20 Forms, selectable by the user from a menu. Forms must be able to be updated over the air. Copies of forms currently used by NMFS are available upon request. From time to time NMFS will provide all E-MTU approved vendors with updates defining new forms or modifying existing forms. Such notice will be at least 60 (sixty) days prior to the implementation date for the new or changed form. Vendors will be responsible for translating the requirements into MTU specific forms definitions and transmitting the same to all VMS terminals supplied to fishing vessels. All forms software provided with the E-MTU must be capable of supporting the requirements described in this specification. Additional capabilities beyond those stated here are acceptable, provided that the minimum requirements are satisfied.

4.2.1. A form is defined as: (a) 1-40 characters describing the form, (b) Delivery address (i.e., e-mail or other network identifier), (c) Form number as defined by NMFS to uniquely identify the form, (d) Form version number (numeric with one decimal place; i.e., 1.2), and (e) a collection of 1-30 fields and associated logic rules.

4.2.2. Each field (within a form) is defined by the following elements. Except where noted, all elements of the field definition are mandatory: (a) Label (0 to 40 characters, alpha numeric), (b) Context Help Text (0 to 200 characters, alpha numeric), (c)Type (Either; enumeration, numeric, alpha, alphanumeric or Boolean), (d) Default Value, (e) Optional/Mandatory/Hidden/ Logic indicator, (f) Min/Max values (for numeric fields only) in range 0.000 to 999,999, (g) Decimal places (for numeric fields only) 0-3, and (h) Min/Max characters (for alpha/alphanumeric fields only).

4.2.3. Up to 100 code/value/help text pairs (enumerations only) must be provided, where codes are defined as 1-20 alphanumeric characters, values are 1-80 alphanumeric characters and help text is 0-200 characters. Such fields are typically used to permit a user to select from a range of options (i.e., geographic areas, gear types, fish species). Codes are used to compress the form data for efficient transmission. Help text would typically be displayed only when the user selects a specific value from the enumeration.

4.2.4. Form Validation: Each field must be defined as; Optional, Mandatory or Logic Driven. Mandatory fields must be entered by the user before the form is complete, optional fields that do not require data entry, and logic driven fields have their attributes determined by earlier form selections. Specifically; it must be possible for selection of an enumeration to change the optional/mandatory setting, min/ max values, or the permitted enumeration values on a later field within the same form.

4.2.5. State Information: The capability to populate a form based on the last values used must be available. This provides the user with an easy mechanism to “modify” or “update” a prior submission - without unnecessary re-entry of data. The user must be able to review a minimum of 20 past form submissions and ascertain for each form when the form was transmitted and whether delivery was successfully completed to the vendor's processing center. In the case of a transmission failure, the user must be provided with details of the cause and have the opportunity to retry the form submission.

4.2.6. Inclusion of VMS Position Report: In addition to the manually entered fields, the forms package must permit the inclusion of VMS position report fields such as latitude, longitude, date and time. Such fields must be obtained from the GPS function of the MTU and transmitted along with the manually entered form data within the same transaction.

4.2.7. Delivery Format for Form Data: It is preferred that form data be transferred from the terminal to NMFS using the same transport as for either text messages or VMS position reports (the selected option to be at the election of the E-MTU vendor). Currently supported protocols for transfer are; FTP, SMTP, XML and HTTP Post. The SMTP protocol is not permitted for the transmission of data sent to the OLE. The field coding within the data must follow either CSV or XML formatting rules. For CSV format the form must contain an identifier and the version number, and then the fields in the order defined on the form. In the CSV format strings that may contain ”,” (comma) characters must be quoted. XML representations must use the field label to define the XML element that contains each field value.

Section 5. Customer Service

The MTU supplier or its designated entities shall provide customer service that is professional, courteous, and responsive. It should provide MTU diagnostic and troubleshooting support to OLE and the fishermen. No services shall be billed to any NOAA or any OLE office without being specifically contracted for in writing by an authorized entity. Services shall include:

5.1. Service level, warranty, and maintenance agreements. Clarify constraints, if any, on the geographic territory, personnel availability, and escalation procedures for problem resolution covered by such services.

5.2. Facilities and procedures in place to assist the fisherman in maintaining and repairing their MTU on a 24 hour basis, including timely responses to requests, and general system service turnaround time.

5.3. Help in the determination and isolation of the cause of communications anomalies.

5.4. Assist in the resolution of communications anomalies that are traced to the MTU.

5.5. All services will be considered to be free of charge unless specifically listed in service or purchase agreements.

Section 6. Other Information

6.1. The MTU must have the durability and reliability necessary to provide acceptable service in a marine environment where the unit may be subjected to saltwater (spray) in smaller vessels, and in larger vessels where the unit may be maintained in a wheelhouse. The unit, cabling and antenna must be resistant to moisture and shock associate with the marine environments.

6.2. The MTU must comply with any additional requirements specified in the regulations for the VMS implementation for which application is made. The requestor must review the applicable NMFS rules requiring the use of VMS and respond here to any specific requirements listed therein.

6.3. All personally identifying information provided by vessels owners or other authorized personnel for the purchase or activation of MTU or E-MTU, or for the participation in any NMFS VMS-approved fishery must be protected from unauthorized disclosure. Personally identifying information includes, but is not limited to, names, addresses, telephone numbers, social security account numbers, credit card numbers, vessel names, federal, state, and local documentation numbers, e-mail addresses, and crew lists. Any information sent electronically to the OLE must be transmitted by a secure means that prevents interception, spoofing, or viewing by unauthorized individuals. Any release of such information must be requested and approved in writing by the vessel owner, authorized personnel, or the OLE. Inadvertent or intentional unauthorized release of personally identifying information will be grounds for reconsideration and possible revocation of the type approval for any MTU supplied by the offending provider.

Dated: January 25, 2008.
Samuel D. Rauch III
Deputy Assistant Administrator for Regulatory Programs, National Marine Fisheries Service.

[FR Doc. E8-1662 Filed 1-30-08; 8:45 am]

BILLING CODE 3510-22-S